DEPARTMENT OF HOMELAND SECURITY

Coast Guard

[Docket No. USCG-2007-0003]

Temporary Relocation of the Coast Guard National Maritime Center (NMC)

AGENCY: Coast Guard, DHS.

ACTION: Notice.

SUMMARY: The Coast Guard National Maritime Center (NMC), which was located in Arlington, VA, has temporarily relocated to Kearneysville, WV, as part of a planned effort to restructure and centralize the Mariner Licensing and Documentation (MLD) Program. This notice provides information regarding both the NMC consolidation and the relocated NMC offices.

DATES: The temporary office in Kearneysville, WV, became operational on October 1, 2007. No further NMC operations are being carried out in Arlington, VA. In December 2007, the NMC will move to its permanent location in Martinsburg, WV.

ADDRESSES: The NMC's temporary address is: Commanding Officer, Coast Guard National Maritime Center, 130 East Burr Blvd., Kearneysville, WV 25430. In December, 2007, the NMC's permanent address will be: Commanding Officer, Coast Guard National Maritime Center, 100 Forbes Drive, Martinsburg, WV 25404.

FOR FURTHER INFORMATION CONTACT: If you have questions on this notice, call Mr. Jeffrey Brandt, National Maritime Center, telephone 304-724-9559.

SUPPLEMENTARY INFORMATION: The MLD Program restructuring and centralization plan, approved in 2005, will centralize many of the simultaneous efforts of 17 independently operating Regional Examination Centers (RECs) into one Merchant Mariner Credential (MMC) processing center in Martinsburg, WV. Having one MMC processing center will allow for more consistent procedures, cost reduction, improved oversight, and improved mariner assistance.

The NMC has been reorganized into five divisions consisting of the Operations and Oversight Division (NMC-1), Mariner Training and Assessment Division (NMC-2), Program Support Division (NMC-3), Mariner Records Division (NMC-4), and Mariner Services Division (NMC-5).

We have temporarily relocated the NMC to Kearneysville, WV. On or about December 10, 2007, the NMC will relocate to its permanent address in Martinsburg, WV.

Dated: October 4, 2007.
Howard L. Hime,
Acting Director of Commercial Regulations and Standards, United States Coast Guard.

[FR Doc. E7-20493 Filed 10-16-07; 8:45 am]

BILLING CODE 4910-15-P